DEPARTMENT OF COMMERCE

Foreign-Trade Zones Board

[Docket 67-2000]

Foreign-Trade Zone 115—Beaumont, Texas, Area; Application for Expansion

An application has been submitted to the Foreign-Trade Zones (FTZ) Board (the Board) by the Foreign-Trade Zone of Southeast Texas, Inc., grantee of Foreign-Trade Zone 115, requesting authority to expand its zone to include a petroleum terminal in Nederland (Jefferson County), Texas, within the U.S. Customs Service consolidated port of Port Arthur and Sabine. The application was submitted pursuant to the provisions of the Foreign-Trade Zones Act, as amended (19 U.S.C. 81a-81u), and the regulations of the Board (15 CFR part 400). It was formally filed on November 29, 2000.

FTZ 115 was approved on March 20, 1985 (Board Order 296, 50 FR 13261, 4/3/85). The zone project currently consists of seven sites (244 acres) in Orange and Jefferson Counties.

The applicant is now requesting authority to expand the general-purpose zone to include Proposed Site 8 (952 acres)—at the Sun Pipe Line Company (Sun PLC) crude oil petroleum terminal located in Nederland, Texas. The site includes all of the facilities of Sun PLC's Nederland Terminal, including the buildings, marine berths, storage tanks, pipelines, manifolds, pumps, valves, filters, meters, etc. The terminal includes an 802-acre marine facility that provides storage for crude oil and certain refined petroleum products. The terminal also includes a 150-acre tank farm that provides for storage of crude oil. Several of the storage tanks at the proposed zone site already are covered by two existing FTZ subzone grants (Mobil Oil Corporation (FTZ-115B) and Fina Oil & Chemical Company (FTZ-116-B)), and those tanks are excluded from this application. Sun PLC, the owner and anticipated operator of the proposed site, is a wholly-owned subsidiary of Sunoco, Inc. The facilities will be primarily used to store and distribute crude oil for Sunoco affiliates, but the facilities will also be available for use by other petroleum companies that lease tanks from Sun PLC. Sun PLC (or Sunoco) will be the operator of the site.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is February 12, 2001. Rebuttal comments in response to material submitted during the foregoing period may be submitted during the subsequent 15-day period (to February 26, 2001).

A copy of the application and accompanying exhibits will be available for public inspection at each of the following locations:

Office of the Port of Beaumont, 1225 Main Street, Beaumont, Texas 77701, Office of the Executive Secretary, Foreign-Trade Zones Board, Room 4008, U.S. Department of Commerce 14th & Pennsylvania Avenue, NW., Washington, DC 20230.

Dated: November 30, 2000.
Dennis Puccinelli,
Executive Secretary.

[FR Doc. 00-31494 Filed 12-11-00; 8:45 am]

BILLING CODE 3510-DS-P